DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 25, 2014. Address written comments to Statutory Import Programs Staff, Room 3720, U.S. Department of Commerce, Washington, DC 20230. Applications may be examined between 8:30 a.m. and 5:00 p.m. at the U.S. Department of Commerce in Room 3720.

Docket Number: 13-052. Applicant: The Association of Universities for Research in Astronomy, 950 N. Cherry Ave., Tucson, AZ 85719. Instrument: Enclosure control system for the Advanced Technology Solar Telescope. Manufacturer: AEC Engineering, part of the IDOM Group, Spain. Intended Use: The instrument will be used to understand the nature of transient solar events which affect life on Earth by employing techniques such as augmenting pointing control of the Telescope at the Sun and augmenting control over the thermal environment during operational use. During normal sun-tracking operations, the Enclosure accessory shall provide complete protection of the Telescope (except for the M1 Assembly) from incoming solar radiation (insolation), the Enclosure accessory shall provide an unobstructed optical path from the Sun to the M1 Assembly when the carousel and shutters are in any position within their allowable ranges of travel, and the Enclosure accessory skin shall be insulated to the extent required to ensure that the interior surface temperature can be maintained at +0° F/-3.5° relative to ambient temperature while the exterior skin temperature is at ambient minus 7.2° F in all operational conditions. Justification for Duty-Free Entry: There are no instruments of the same general category manufactured in the United States. Application accepted by Commissioner of Customs: January 23, 2014.

Docket Number: 13-054. Applicant: Regents of the University of Minnesota, School of Physics and Astronomy, 116 Church Street SE., Minneapolis, MN 55455-0149. Instrument: Yanus IV Laser Scan Head. Manufacturer: Till Photonics, Germany. Intended Use: The instrument will be used to study the oligomeric state of EGFP tagged Retenoid X Receptor (RXR-EGFP) in the absence and presence of its ligand by PCH analysis, as well as follow its binding to DNA and other nuclear factors by conventional and scanning fluorescence correlation spectroscopy (FCS). The laser beam is continuously scanned in a circular fashion, which shows peaks and valleys which add contrast and give information about the scan radius, diffusion coefficient and particle concentrations that would be absent in conventional FCS. Conventional scan heads for laser microscopy have a finite distance between their scan axes, which introduces aberrations and vignetting into the scan. These distortions in the point spread function prohibit the quantitative imaging experiments. The Yanus IV scan head has been engineered with an effective zero optical distance between the scan axes, which maintains diffraction-limited performance across the entire scan field. This is the only instrument with zero effective optical distance between the scan axes. Justification for Duty-Free Entry: There are no instruments of the same general category manufactured in the United States. Application accepted by Commissioner of Customs: January 2, 2014.

Dated: January 28, 2014.
Gregory W. Campbell,
Director of Subsidies Enforcement, Enforcement and Compliance.

[FR Doc. 2014-02465 Filed 2-4-14; 8:45 am]

BILLING CODE 3510-DS-P